DEPARTMENT OF COMMERCE

Foreign-Trade Zones Board

[B-48-2014]

Foreign-Trade Zone 277—Western Maricopa County, Arizona; Authorization of Production Activity; Maxwell Technologies, Inc. (Electrode and Capacitor Manufacturing); Peoria, Arizona

On June 27, 2014, Greater Maricopa Foreign-Trade Zone, Inc., grantee of FTZ 277, submitted a notification of proposed production activity to the Foreign-Trade Zones (FTZ) Board on behalf of Maxwell Technologies, Inc., within Site 10, in Peoria, Arizona.

The notification was processed in accordance with the regulations of the FTZ Board (15 CFR part 400), including notice in the Federal Register inviting public comment (79 FR 38488, 07/08/2014). The FTZ Board has determined that no further review of the activity is warranted at this time. The production activity described in the notification is authorized, subject to the FTZ Act and the Board's regulations, including Section 400.14.

Dated: October 28, 2014.
Andrew McGilvray,
Executive Secretary.

[FR Doc. 2014-26092 Filed 10-31-14; 8:45 am]

BILLING CODE 3510-DS-P